DEPARTMENT OF HEALTH AND HUMAN SERVICES

Administration for Children and Families

Statement of Organization, Functions, and Delegations of Authority

Notice is hereby given that I have delegated to the Director of the Anti-Trafficking in Persons Division the following authority vested in the Director of the Office of Refugee Resettlement.

(a) Authority Delegated.

Authority to conduct public awareness and information activities under the Trafficking Victims Protection Act of 2000 (TVPA), Public Law No. 106-386, § 106(b), 22 U.S.C. 7104(b).

(b) Limitations and Conditions.

1. This Delegation shall be exercised under the Department's existing delegation of authority and policy on regulations.

2. This delegation shall be exercised under financial and administrative requirements applicable to all Administration for Children and Families' authorities.

3. The Director of the Anti-Trafficking in Persons Division must report to the Director, Office of Refugee Resettlement, and the Director, Office of Refugee Resettlement, must report to the Assistant Secretary prior to carrying out public awareness and information activities.

(c) Effective Date.

This delegation of authority is effective upon the date of signature.

(d) Effect on Existing Delegations.

None.

In addition, I have affirmed and ratified any actions taken by the Director, Anti-Trafficking in Persons Division which involved the exercise of this authority prior to the effective date of this delegation.

Dated: January 15, 2008.
Brent Orrell,
Acting Director, Office of Refugee Resettlement.

[FR Doc. E8-1517 Filed 1-28-08; 8:45 am]

BILLING CODE 4184-01-P